DEPARTMENT OF TRANSPORTATION

Federal Aviation Administration

14 CFR Part 39

[Docket No. FAA-2006-25988; Directorate Identifier 2006-NM-113-AD; Amendment 39-14884; AD 2007-01-12]

RIN 2120-AA64

Airworthiness Directives; Dassault Model Mystere-Falcon 50 and 900, and Falcon 900EX Airplanes; and Model Falcon 2000 and Falcon 2000EX Airplanes

AGENCY: Federal Aviation Administration (FAA), Department of Transportation (DOT).

ACTION: Final rule.

SUMMARY: The FAA is adopting a new airworthiness directive (AD) for certain Dassault Model Mystere-Falcon 50 and 900, and Falcon 900EX airplanes; and Model Falcon 2000 and Falcon 2000EX airplanes. This AD requires an inspection of the identification plates of the outboard slats to determine the type of identification plates and the part numbers. For certain airplanes, this AD also requires a revision to the Limitations and Normal Procedures sections of the airplane flight manual to provide procedures for operation in icing conditions; and replacement of the anti-icing manifold with an anti-icing manifold of the correct type design if necessary. For certain airplanes, this AD also requires related investigative and corrective actions if necessary. This AD results from a finding that the outboard slats for Model Mystere-Falcon 50 airplanes have been erroneously authorized, in limited cases, as interchangeable for use on Model Mystere-Falcon 900 and Falcon 900EX airplanes; and Model Falcon 2000 and Falcon 2000EX airplanes. We are issuing this AD to prevent failure of the anti-icing manifold of the outboard slats, which could result in loss of control of the airplane.

DATES: This AD becomes effective March 6, 2007.

The Director of the Federal Register approved the incorporation by reference of certain publications listed in the AD as of March 6, 2007.

ADDRESSES: You may examine the AD docket on the Internet at http://dms.dot.gov or in person at the Docket Management Facility, U.S. Department of Transportation, 400 Seventh Street, SW., Nassif Building, Room PL-401, Washington, DC.

Contact Dassault Falcon Jet, P.O. Box 2000, South Hackensack, New Jersey 07606, for service information identified in this AD.

FOR FURTHER INFORMATION CONTACT: Tom Rodriguez, Aerospace Engineer, International Branch, ANM-116, FAA, Transport Airplane Directorate, 1601 Lind Avenue, SW., Renton, Washington 98057-3356; telephone (425) 227-1137; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Dassault Model Mystere-Falcon 50 and 900, and Falcon 900EX airplanes; and Model Falcon 2000 and Falcon 2000EX airplanes. That NPRM was published in the Federal Register on October 5, 2006 (71 FR 58755). That NPRM proposed to require an inspection of the identification plates of the outboard slats to determine the type of identification plates and the part numbers. For certain airplanes, that NPRM also proposed to require a revision to the Limitations and Normal Procedures sections of the airplane flight manual to provide procedures for operation in icing conditions; and replacement of the anti-icing manifold with an anti-icing manifold of the correct type design if necessary. For certain airplanes, that NPRM also proposed to require related investigative and corrective actions if necessary.

Comments

We provided the public the opportunity to participate in the development of this AD. We have considered the comments received.

Request To Incorporate by Reference During the NPRM Rulemaking Phase

The Modification and Replacement Parts Association (MARPA) states that, typically, ADs are based on service information originating with the type certificate holder or its suppliers. MARPA adds that manufacturer service documents are privately authored instruments generally having copyright protection against duplication and distribution. MARPA notes that when a service document is incorporated by reference into a public document, such as an AD, it loses its private, protected status and becomes a public document. MARPA adds that if a service document is used as a mandatory element of compliance, it should not simply be referenced, but should be incorporated into the regulatory document; by definition, public laws must be public, which means they cannot rely upon private writings.

We understand MARPA's comment concerning incorporation by reference. The Office of the Federal Register (OFR) requires that documents that are necessary to accomplish the requirements of the AD be incorporated by reference during the final rule phase of rulemaking. This final rule incorporates by reference the documents necessary for the accomplishment of the actions required by this AD. Further, we point out that while documents that are incorporated by reference do become public information, they do not lose their copyright protection. For that reason, we advise the public to contact the manufacturer to obtain copies of the referenced service information.

Request To Publish Service Information Online

MARPA adds that incorporated by reference service documents should be made available to the public by publication in the Docket Management System (DMS), keyed to the action that incorporates them. MARPA notes that the stated purpose of the incorporation by reference method is brevity, to keep from expanding the Federal Register needlessly by publishing documents already in the hands of the affected individuals; traditionally, “affected individuals” means aircraft owners and operators, who are generally provided service information by the manufacturer. MARPA adds that a new class of affected individuals has emerged, since the majority of aircraft maintenance is now performed by specialty shops instead of aircraft owners and operators. MARPA notes that this new class includes maintenance and repair organizations, component servicing and repair shops, parts purveyors and distributors, and organizations manufacturing or servicing alternatively certified parts under section 21.303 (“Replacement and modification parts”) of the Federal Aviation Regulations (14 CFR 21.303). MARPA adds that the concept of brevity is now nearly archaic as documents exist more frequently in electronic format than on paper. Therefore, MARPA asks that the service documents deemed essential to the accomplishment of the NPRM be incorporated by reference into the regulatory instrument and published in DMS.

In regard to the commenter's request to post service bulletins on the Department of Transportation's DMS, we are currently in the process of reviewing issues surrounding the posting of service bulletins on DMS as part of an AD docket. Once we have thoroughly examined all aspects of this issue and have made a final determination, we will consider whether our current practice needs to be revised. No change to the final rule is necessary in response to this comment.

Conclusion

We have carefully reviewed the available data, including the comments received, and determined that air safety and the public interest require adopting the AD as proposed.

Costs of Compliance

This AD affects about 637 airplanes of U.S. registry. The required inspection takes about 2 work hours per airplane, at an average labor rate of $80 per work hour. Based on these figures, the estimated cost of the AD for U.S. operators is $101,920, or $160 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-01-12 Dassault Aviation: Amendment 39-14884. Docket No. FAA-2006-25988; Directorate Identifier 2006-NM-113-AD.

Effective Date

(a) This AD becomes effective March 6, 2007.

Affected ADs

(b) None.

Applicability

(c) This AD applies to the airplanes identified in Table 1 of this AD, certificated in any category.

Table 1.—Applicability
Dassault model— | Serial Nos.—
Mystere-Falcon 50 airplanes | 2 through 344 inclusive.
Mystere-Falcon 900 airplanes | 1 through 202 inclusive.
Falcon 900EX airplanes | 1 through 96 inclusive and 98 through 154 inclusive.
Falcon 2000 airplanes | 1 through 223 inclusive.
Falcon 2000EX airplanes | 1 through 69 inclusive.

Unsafe Condition

(d) This AD results from a finding that the outboard slats for Model Mystere-Falcon 50 airplanes have been erroneously authorized, in limited cases, as interchangeable for use on Model Mystere-Falcon 900, and Falcon 900EX airplanes; and Model Falcon 2000 and Falcon 2000EX airplanes. We are issuing this AD to prevent failure of the anti-icing manifold of the outboard slats, which could result in loss of control of the airplane.

Compliance

(e) You are responsible for having the actions required by this AD performed within the compliance times specified, unless the actions have already been done.

Service Bulletin References

(f) The term “service bulletin,” as used in this AD, means the Accomplishment Instructions of the service bulletins identified in Table 2 of this AD, as applicable. Although the service bulletins referenced in Table 2 of this AD specify to submit certain information to the manufacturer, this AD does not include that requirement.

Table 2.—Service Bulletins
Dassault Service Bulletin— | Dated— | For model— | For the actions specified in—
F2000-331 | January 30, 2006 | Falcon 2000 airplanes | Paragraph (h) of this AD.
F2000EX-91 | January 30, 2006 | Falcon 2000EX airplanes | Paragraph (h) of this AD.
F50-475 | January 30, 2006 | Mystere-Falcon 50 airplanes | Paragraph (g) of this AD.
F50-478 | January 30, 2006 | Mystere-Falcon 50 airplanes | Paragraph (g)(2) of this AD.
F900-370 | January 30, 2006 | Mystere-Falcon 900 airplanes | Paragraph (h) of this AD.
F900EX-273 | January 30, 2006 | Falcon 900EX airplanes | Paragraph (h) of this AD.

Inspection and Corrective Actions for Model Mystere-Falcon 50 Airplanes

(g) For Model Mystere-Falcon 50 airplanes: Within 330 flight hours or 7 months after the effective date of this AD, whichever occurs first, inspect the identification plates of the outboard slats to determine the type of identification plates and the part numbers (P/Ns), in accordance with the applicable service bulletin. A review of airplane maintenance records is acceptable in lieu of the inspection if the type of identification plate and the part numbers of the outboard slats can be determined conclusively from that review. If a “type 3” identification plate is installed and mentions “REP,” “WILMINGTON,” “LITTLE ROCK,” or any other repair station, or if the conformity of the slat with the airplane's type design cannot be positively confirmed, before further flight, do a “go-no-go” diameter check of the air distribution holes of the manifold using a drill bit shank, in accordance with the applicable service bulletin. If the drill bit shank can be inserted through the air distribution holes of the manifold, or if a “type 1” identification plate is installed and inscribed with P/N FGFB134XX or P/N FGFB144XX, or if a slat has multiple identification plates and the vertical field of the most recent plate is inscribed with “F900” or “MF900,” do the actions specified in paragraphs (g)(1) and (g)(2) of this AD.

(1) Before further flight after the inspection required by paragraph (g) of this AD: Revise the Limitations and Normal Procedures sections of the Dassault Mystere-Falcon 50 Airplane Flight Manual (AFM), DTM813, to include the information in Dassault Temporary Change (TC) 61, dated January 27, 2006, as specified in the TC; or revise the Limitations and Normal Procedures sections of the Dassault Mystere-Falcon 50EX AFM, FM813EX, to include the information in Dassault TC 75, dated January 27, 2006, as specified in the TC; as applicable. These TCs introduce procedures for operation in icing conditions. Operate the airplane according to the limitations and procedures in the applicable TC.

Note 1: This may be done by inserting a copy of TC 61 or TC 75 in the AFM, as applicable. When the TC has been included in the general revisions of the AFM, the general revisions may be inserted in the AFM, provided that the relevant information in the general revision is identical to that in TC 61 or TC 75, as applicable.

(2) Within 1,530 flight hours after accomplishing the inspection required by paragraph (g) of this AD: Replace the anti-icing manifold with an anti-icing manifold of the correct type design, by accomplishing all of the actions specified in the applicable service bulletin, except as provided by paragraph (f) of this AD. Accomplishing the replacement terminates the requirements of paragraph (g)(1) of this AD. After the replacement has been done, the AFM limitation required by paragraph (g)(1) of this AD may be removed from the AFM.

Inspection and Replacement for Certain Airplanes

(h) For Model Mystere-Falcon 900 and Falcon 900EX airplanes, and Model Falcon 2000 and Falcon 2000EX airplanes: Within 330 flight hours or 7 months after the effective date of this AD, whichever occurs first, inspect the identification plates of the outboard slats to determine the type of identification plates and the part numbers, and do all related investigative and corrective actions, by accomplishing all of the actions specified in the service bulletin, as applicable, except as provided by paragraph (f) of this AD. Do all applicable related investigative and corrective actions before further flight. A review of airplane maintenance records is acceptable in lieu of the inspection if the type of identification plate and the part numbers of the outboard slats can be determined conclusively from that review.

Alternative Methods of Compliance (AMOCs)

(i)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(j) European Aviation Safety Agency (EASA) airworthiness directive 2006-0037, dated February 1, 2006, also addresses the subject of this AD.

Material Incorporated by Reference

(k) You must use the service information identified in Table 3 of this AD to perform the actions that are required by this AD, unless the AD specifies otherwise.

Table 3.—Material Incorporated by Reference
Service information | Revision level | Date
Dassault Service Bulletin F2000-331 | Original | January 30, 2006.
Dassault Service Bulletin F2000EX-91 | Original | January 30, 2006.
Dassault Service Bulletin F50-475 | Original | January 30, 2006.
Dassault Service Bulletin F50-478 | Original | January 30, 2006.
Dassault Service Bulletin F900-370 | Original | January 30, 2006.
Dassault Service Bulletin F900EX-273 | Original | January 30, 2006.
Dassault Temporary Change 61 to the Dassault Mystere-Falcon 50 Airplane Flight Manual, DTM813 | Original | January 27, 2006.
Dassault Temporary Change 75 to the Dassault Mystere-Falcon 50EX Airplane Flight Manual, FM813EX | Original | January 27, 2006.

(The issue date on the second page of Dassault Temporary Change 61 is incorrect; instead of January 27, 2005, that date should be January 27, 2006.) The Director of the Federal Register approved the incorporation by reference of these documents in accordance with 5 U.S.C. 552(a) and 1 CFR part 51. Contact Dassault Falcon Jet, P.O. Box 2000, South Hackensack, New Jersey 07606, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on December 26, 2006.
Ali Bahrami,
Manager, Transport Airplane Directorate, Aircraft Certification Service.

[FR Doc. E7-1204 Filed 1-29-07; 8:45 am]

BILLING CODE 4910-13-P